DEPARTMENT OF ENERGY

[OE Docket No. EA-426-A]

Application To Export Electric Energy; Rassini Energy Project, LLC

AGENCY: Office of Electricity, Department of Energy.

ACTION: Notice of application.

SUMMARY: Rassini Energy Project, LLC (Applicant or REP) has applied for authorization to transmit electric energy from the United States to Mexico pursuant to the Federal Power Act.

DATES: Comments, protests, or motions to intervene must be submitted on or before December 6, 2021.

ADDRESSES: Comments, protests, motions to intervene, or requests for more information should be addressed by electronic mail to Electricity.Exports@hq.doe.gov, or by facsimile to (202) 586-8008.

FOR FURTHER INFORMATION CONTACT: Matt Aronoff, (202) 586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On October 22, 2021, REP filed an application with DOE (Application or App.) to renew its existing authorization to transmit electric energy from the United States to Mexico. See App. at 1. REP states that it “is a limited liability company organized and existing under the laws of the State of Delaware with its principal place of business located [in] Plymouth, Michigan.” Id. REP adds that it is a “subsidiary of Rassini International Investments, L.L.C., a Delaware limited liability company (Rassini).” Id. REP represents that, “[n]either [it] nor any of its affiliates owns, controls, or operates any electric generation, electric distribution or transmission facilities, or natural gas distribution or transmission facilities, . . . or generation sites in the United States.” Id. at 2. REP also states that, “neither [it] nor any of its affiliates has a franchise or service territory for the sale, distribution or transmission or electricity or natural gas in the United States.” Id. at 2.

REP contends that its proposed exports “would not negatively impact electric supply, nor would they impair the coordination of the electric grid under the DOE's standards.” App. at 4. REP represents that “the export limits imposed by the Department on the international transmission facilities are sufficient to ensure that exports by Applicant would not impede or tend to impede the coordinated use of transmission facilities within the meaning of FPA Section 202(e).” Id. at 6.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning REP's application to export electric energy to Mexico should be clearly marked with OE Docket No. EA-426-A. Additional copies are to be provided directly to Juan Pablo Rosas P., Pedregal 24—Piso 7, Col. Molino del Rey C.P., 11040, Ciudad de México, Mexico, jprosas@rassini.com; William D. DeGrandis, 2050 M Street NW, Washington, DC 20036, billdegrandis@paulhastings.com; and Jenna L. McGrath, 2050 M Street NW, Washington, DC 20036, jennamcgrath@paulhastings.com.

A final decision will be made on the requested authorization after the environmental impacts have been evaluated pursuant to DOE's National Environmental Policy Act Implementing Procedures (10 CFR part 1021) and after DOE evaluates whether the proposed action will have an adverse impact on the sufficiency of supply or the reliability of the U.S. electric power supply system.

Copies of the Application will be made available, upon request, by accessing the program website at https://energy.gov/node/11845, or by emailing Matt Aronoff at matthew.aronoff@hq.doe.gov.

Signed in Washington, DC, on November 1, 2021.
Christopher Lawrence,
Management and Program Analyst, Electricity Delivery Division, Office of Electricity.

[FR Doc. 2021-24220 Filed 11-4-21; 8:45 am]

BILLING CODE 6450-01-P